DEPARTMENT OF HOMELAND SECURITY

Federal Emergency Management Agency

[Docket ID FEMA-2014-0002; Internal Agency Docket No. FEMA-B-1403]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR Part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has ninety (90) days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR Part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

State and county | Location and case No. | Chief executive officer of community | Community map repository | Online location of letter of map revision | Effective date of modification | Community No.
Alabama:
Jefferson | City of Bessemer (13-04-7454P) | The Honorable Kenneth E. Gulley, Mayor, City of Bessemer, 1800 3rd Avenue North, Bessemer, AL 35020 | City Hall, Engineering Department, 1800 3rd Avenue North, Bessemer, AL 35020 | www.msc.fema.gov/lomc | March 13, 2014 | 010115
Jefferson | Unincorporated areas of Jefferson County (13-04-7454P) | The Honorable David Carrington, Chairman, Jefferson County Commission, 716 Richard Arrington, Jr. Boulevard North, Birmingham, AL 35203 | Jefferson County Land Development Department, 716 Richard Arrington, Jr. Boulevard North, Suite 260, Birmingham, AL 35203 | www.msc.fema.gov/lomc | March 13, 2014 | 010217
Arizona:
Maricopa | Town of Buckeye (13-09-2406P) | The Honorable Jackie A. Meck, Mayor, Town of Buckeye, 530 East Monroe Avenue, Buckeye, AZ 85326 | Town Hall, 100 North Apache Street, Suite A, Buckeye, AZ 85326 | www.msc.fema.gov/lomc | March 14, 2014 | 040039
Maricopa | Unincorporated areas of Maricopa County (13-09-2406P) | The Honorable Andrew Kunasek, Chairman, Maricopa County Board of Supervisors, 301 West Jefferson Street, 10th Floor, Phoenix, AZ 85003 | Maricopa County Flood Control District, 2801 West Durango Street, Phoenix, AZ 85009 | www.msc.fema.gov/lomc | March 14, 2014 | 040037
Pima | Unincorporated areas of Pima County (13-09-2458P) | The Honorable Ramon Valadez, Chairman, Pima County Board of Supervisors, 130 West Congress Street, 11th Floor, Tucson, AZ 85701 | Pima County Flood Control District, 97 East Congress Street, 3rd Floor, Tucson, AZ 85701 | www.msc.fema.gov/lomc | February 7, 2014 | 040073
Pinal | City of Apache Junction (13-09-1704P) | The Honorable John Insalaco, Mayor, City of Apache Junction, 300 East Superstition Boulevard, Apache Junction, AZ 85119 | City Hall, 1001 North Idaho Road, Apache Junction, AZ 85219 | www.msc.fema.gov/lomc | March 25, 2014 | 040120
Yavapai | Unincorporated areas of Yavapai County (13-09-0731P) | The Honorable Chip Davis, Chairman, Yavapai County Board of Supervisors, 10 South 6th Street, Cottonwood, AZ 86326 | Yavapai County Flood Control District, 500 South Marina Street, Prescott, AZ 86303 | www.msc.fema.gov/lomc | March 7, 2014 | 040093
California:
Humboldt | City of Arcata (13-09-2457P) | The Honorable Shane Brinton, Mayor, City of Arcata, 736 F Street, Arcata, CA 95521 | Public Works Department, 736 F Street, Arcata, CA 95521 | www.msc.fema.gov/lomc | February 28, 2014 | 060061
Orange | City of Irvine (13-09-3195P) | The Honorable Steven S. Choi, Ph.D., Mayor, City of Irvine, 1 Civic Center Plaza, Irvine, CA 92606 | Public Works Department, Development Engineering, 1 Civic Center Plaza, 2nd Floor, Irvine, CA 92606 | www.msc.fema.gov/lomc | March 21, 2014 | 060222
Colorado:
Denver | City and County of Denver (13-08-1197P) | The Honorable Michael B. Hancock, Mayor, City and County of Denver, 1437 Bannock Street, Suite 350, Denver, CO 80202 | Department of Public Works, 201 West Colfax Avenue, Denver, CO 80202 | www.msc.fema.gov/lomc | March 21, 2014 | 080046
Douglas | Town of Parker (13-08-0607P) | The Honorable Mike Waid, Mayor, Town of Parker, 20120 East Main Street, Parker, CO 80138 | Public Works Department, 20120 East Main Street, Parker, CO 80138 | www.msc.fema.gov/lomc | March 14, 2014 | 080310
El Paso | City of Colorado Springs (13-08-1078P) | The Honorable Steve Bach, Mayor, City of Colorado Springs, 30 South Nevada Avenue, Colorado Springs, CO 80903 | Floodplain Administrator's Office, 2880 International Circle, Colorado Springs, CO 80910 | www.msc.fema.gov/lomc | March 14, 2014 | 080060
Jefferson | City of Lakewood (13-08-0333P) | The Honorable Bob Murphy, Mayor, City of Lakewood, 480 South Allison Parkway, Lakewood, CO 80226 | Engineering Department, 480 South Allison Parkway, Lakewood, CO 80226 | www.msc.fema.gov/lomc | February 28, 2014 | 085075
Florida:
Escambia | Unincorporated areas of Escambia County (13-04-7319P) | The Honorable Gene M. Valentino, Chairman, Escambia County Board of Commissioners, 221 Palafox Place, Suite 400, Pensacola, FL 32502 | Escambia County Development Services Department, 3363 West Park Place, Pensacola, FL 32505 | www.msc.fema.gov/lomc | March 26, 2014 | 120080
Escambia | Unincorporated areas of Escambia County (13-04-7654P) | The Honorable Gene M. Valentino, Chairman, Escambia County Board of Commissioners, 221 Palafox Place, Suite 400, Pensacola, FL 32502 | Escambia County Development Services Department, 3363 West Park Place, Pensacola, FL 32505 | www.msc.fema.gov/lomc | March 26, 2014 | 120080
Orange | City of Maitland (13-04-7033P) | The Honorable Howard Schieferdecker, Mayor, City of Maitland, Maitland Municipal Complex, 1776 Independence Lane, Maitland, FL 32751 | City Hall, 1776 Independence Lane, Maitland, FL 32751 | www.msc.fema.gov/lomc | March 7, 2014 | 120184
Orange | City of Orlando (13-04-7033P) | The Honorable Buddy Dyer, Mayor, City of Orlando, P.O. Box 4990, Orlando, FL 32808 | Permitting Services Division, 400 South Orange Avenue, Orlando, FL 32801 | www.msc.fema.gov/lomc | March 7, 2014 | 120186
Orange | City of Winter Park (13-04-7033P) | The Honorable Kenneth W. Bradley, Mayor, City of Winter Park, 401 South Park Avenue, Winter Park, FL 32789 | City Hall, 401 South Park Avenue, Winter Park, FL 32789 | www.msc.fema.gov/lomc | March 7, 2014 | 120188
Orange | Unincorporated areas of Orange County (13-04-7033P) | The Honorable Teresa Jacobs, Mayor, Orange County, 201 South Rosalind Avenue, 5th Floor, Orlando, FL 32801 | Orange County Stormwater Management Division, 4200 South John Young Parkway, Orlando, FL 32839 | www.msc.fema.gov/lomc | March 7, 2014 | 120179
Pinellas | City of Dunedin (13-04-5166P) | The Honorable Dave Eggers, Mayor, City of Dunedin, 542 Main Street, Dunedin, FL 34698 | Engineering Department, 542 Main Street, Dunedin, FL 34698 | www.msc.fema.gov/lomc | March 20, 2014 | 125103
Sarasota | Unincorporated areas of Sarasota County (13-04-5170P) | The Honorable Carolyn J. Mason, Chair, Sarasota County Commission, 1660 Ringling Boulevard, Sarasota, FL 34236 | Sarasota County, Stormwater Management Department, 1001 Sarasota Center Boulevard, Sarasota, FL 34240 | www.msc.fema.gov/lomc | March 21, 2014 | 125144
Seminole | City of Casselberry (13-04-7033P) | The Honorable Charlene Glancy, Mayor, City of Casselberry, 95 Triplet Lake Drive, Casselberry, FL 32707 | Fire/Public Works Administration, 95 Triplet Lake Drive, Casselberry, FL 32707 | www.msc.fema.gov/lomc | March 7, 2014 | 120291
Seminole | Unincorporated areas of Seminole County (13-04-7033P) | The Honorable Bob Dallari, Chairman, Seminole County Board of Commissioners, 1101 East 1st Street, Sanford, FL 32771 | County Services Building, 1101 East 1st Street, Sanford, FL 32771 | www.msc.fema.gov/lomc | March 7, 2014 | 120289
Hawaii:
Hawaii | Hawaii County (13-09-2580P) | The Honorable William P. Kenoi, Mayor, Hawaii County, 25 Aupuni Street, Hilo, HI 96720 | Hawaii County Public Works Department, 101 Pauahi Street, Suite 7, Hilo, HI 96720 | www.msc.fema.gov/lomc | February 21, 2014 | 155166
Mississippi:
Jones | City of Ellisville (13-04-1560P) | The Honorable Tim Waldrup, Mayor, City of Ellisville, 110 North Court Street, Ellisville, MS 39437 | City Hall, 110 North Court Street, Ellisville, MS 39437 | www.msc.fema.gov/lomc | February 28, 2014 | 280091
Jones | Unincorporated areas of Jones County (13-04-1560P) | The Honorable Andy Dial, President, Jones County Board of Supervisors, P.O. Box 1468, Laurel, MS 39441 | Jones County Courthouse, 415 North 5th Avenue, Laurel, MS 39441 | www.msc.fema.gov/lomc | February 28, 2014 | 280222
Union | Unincorporated areas of Union County (13-04-3496P) | The Honorable Danny Jordan, President, Union County Board of Supervisors, 109 East Main Street, New Albany, MS 38652 | Union County Courthouse, 109 East Main Street, New Albany, MS 38652 | www.msc.fema.gov/lomc | March 10, 2014 | 280237
North Carolina:
Alamance | City of Burlington (14-04-0924P) | The Honorable Ronnie K. Wall, Mayor, City of Burlington, 425 South Lexington Avenue, Burlington, NC 27216 | Inspection Division, 425 South Lexington Avenue, Burlington, NC 27216 | www.msc.fema.gov/lomc | March 31, 2014 | 370002
Alamance | City of Burlington (14-04-0926P) | The Honorable Ronnie K. Wall, Mayor, City of Burlington, 425 South Lexington Avenue, Burlington, NC 27216 | Inspection Division, 425 South Lexington Avenue, Burlington, NC 27216 | www.msc.fema.gov/lomc | March 31, 2014 | 370002
Gaston | City of Gastonia (14-04-0932P) | The Honorable John Bridgeman, Mayor, City of Gastonia, P.O. Box 1748, Gastonia, NC 28053 | Garland Municipal Business Center, 150 South York Street, Gastonia, NC 28052 | www.msc.fema.gov/lomc | April 5, 2014 | 370100
Guilford | City of Greensboro (14-04-0935P) | The Honorable Robbie Perkins, Mayor, City of Greensboro, P.O. Box 3136, Greensboro, NC 27402 | City of Greensboro Central Library, 219 North Church Street, Greensboro, NC 27401 | www.msc.fema.gov/lomc | April 5, 2014 | 375351
Guilford | Unincorporated areas of Guilford County (14-04-0935P) | The Honorable Linda O. Shaw, Chairman, Guilford County Board of Commissioners, P.O. Box 3427, Greensboro, NC 27402 | Independent Center, 400 West Market Street, Greensboro, NC 27402 | www.msc.fema.gov/lomc | April 5, 2014 | 370111
South Carolina:
York | City of Rock Hill (13-04-4084P) | The Honorable Doug Echols, Mayor, City of Rock Hill, 155 Johnson Street, Rock Hill, SC 29731 | City Hall, 155 Johnson Street, Rock Hill, SC 29731 | www.msc.fema.gov/lomc | February 7, 2014 | 450196
York | Unincorporated areas of York County (13-04-4084P) | The Honorable J. Britt Blackwell, Chairman, York County Council, 6 South Congress Street, York, SC 29745 | York County Engineering Department, 6 South Congress Street, York, SC 29745 | www.msc.fema.gov/lomc | February 7, 2014 | 450193
Tennessee:
Sevier | City of Sevierville (13-04-7165P) | The Honorable Bryan C. Atchley, Mayor, City of Sevierville, 120 Gary Wade Boulevard, Sevierville, TN 37862 | City Hall, 120 Gary Wade Boulevard, Sevierville, TN 37862 | www.msc.fema.gov/lomc | March 28, 2014 | 475444
Utah:
Utah | City of Lehi (13-08-0558P) | The Honorable Bert Wilson, Mayor, City of Lehi, 153 North 100 East, Lehi, UT 84043 | Building and Planning Department, 99 West Main Street, Suite 100, Lehi, UT 84043 | www.msc.fema.gov/lomc | March 20, 2014 | 490209
Utah | City of Saratoga Springs (13-08-0558P) | The Honorable Mia Love, Mayor, City of Saratoga Springs, 1307 North Commerce Drive, Suite 200, Saratoga Springs, UT 84045 | Planning and Zoning Department, 1307 North Commerce Drive, Suite 200, Saratoga Springs, UT 84045 | www.msc.fema.gov/lomc | March 20, 2014 | 490250
Utah | Unincorporated areas of Utah County (13-08-0558P) | The Honorable Doug Whitney, Chairman, Utah County Board of Commissioners, 100 East Center Street, Suite 2300, Provo, UT 84606 | Utah County Public Works Department, 2855 South State Street, Provo, UT 84606 | www.msc.fema.gov/lomc | March 20, 2014 | 495517

(Catalog of Federal Domestic Assistance No. 97.022, “Flood Insurance.”)

Dated: January 31, 2014.
Roy E. Wright,
Deputy Associate Administrator for Mitigation, Department of Homeland Security, Federal Emergency Management Agency.

[FR Doc. 2014-05311 Filed 3-11-14; 8:45 am]

BILLING CODE 9110-12-P